DEPARTMENT OF ENERGY

Federal Energy Regulatory Commission

[Docket No. RP95-408-062]

Columbia Gas Transmission Corporation; Notice of Refund Report

March 24, 2005.

Take notice that on March 17, 2005, Columbia Gas Transmission Corporation (Columbia) tendered for filing its final true-up report to comply with the November 22, 1996 Offer of Settlement (Settlement) approved by the Commission on April 17, 1997 in Docket Nos. RP95-408-013, et al., Columbia Gas Transmission Corporation, 97 FERC ¶ 61,044 (1997).

Columbia states that the Settlement permitted Columbia to reflect in its base rates a settlement component to be collected from firm transportation customers for the “period beginning November 1, 1996 and ending October 31, 2004.” Columbia further explains that, in accordance with the settlement's true-up mechanism, Columbia is hereby providing a final true-up of the revenues collected by Columbia during the twelve-month period ending October 31, 2004.

Any person desiring to protest this filing must file in accordance with Rule 211 of the Commission's Rules of Practice and Procedure (18 CFR 385.211). Protests to this filing will be considered by the Commission in determining the appropriate action to be taken, but will not serve to make protestants parties to the proceeding. Such protests must be filed on or before the date as indicated below. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Protest Date: 5 p.m. eastern time on March 31, 2005.

Magalie R. Salas,
Secretary.

[FR Doc. E5-1423 Filed 3-30-05; 8:45 am]

BILLING CODE 6717-01-P